DEPARTMENT OF THE INTERIOR

Bureau of Land Management

[LLCAC069000 L17110000 AL0000]

Notice of Public Meeting of the Carrizo Plain National Monument Advisory Council

AGENCY: Bureau of Land Management, Interior.

ACTION: Notice of public meeting.

SUMMARY: In accordance with the Federal Land Policy and Management Act and the Federal Advisory Committee Act of 1972, the U.S. Department of the Interior, Bureau of Land Management (BLM) Carrizo Plain National Monument Advisory Council (MAC) will meet as indicated below.

DATES: The meeting will be held on Saturday, October 30, 2010 at the Carrisa Plain Elementary School, located approximately 2 miles northwest of Soda Lake Road on Highway 58. The meeting will begin at 10 a.m. and finish at 2:30 p.m. The meeting will focus on the implementation and priorities of the Resource Management Plan/Environmental Impact Statement (RMP/EIS) for the Carrizo Plain National Monument. There will be a public comment period from 1 p.m. to 2 p.m.

FOR FURTHER INFORMATION CONTACT: The BLM, attention: Johna Hurl, Monument Manager, 3801 Pegasus Drive, Bakersfield, CA 93308. Phone (661) 391-6093 or e-mail: jhurl@blm.gov.

SUPPLEMENTARY INFORMATION: The nine-member MAC advises the Secretary of the Interior, through the BLM, on a variety of public land issues associated with the public land management in the Carrizo Plain National Monument in Central California. At this meeting, Monument staff will present a strategy on the implementation and priorities of the RMP/EIS. This meeting is open to the public. Depending on the number of persons wishing to comment, and the time available, the time allotted for individual oral comments may be limited. Individuals who plan to attend and need special assistance such as sign language interpretation or other reasonable accommodations should contact the BLM as indicated above.

Dated: August 20, 2010.
Timothy Z. Smith,
Field Manager, Bakersfield Field Office.

[FR Doc. 2010-21738 Filed 8-30-10; 8:45 am]

BILLING CODE 4310-40-P